DEPARTMENT OF ENERGY

Federal Energy Regulatory Commission

[Docket No. RP01-292-001]

Mississippi River Transmission Corporation; Notice of Compliance Filing

May 16, 2001.

Take notice that on May 11, 2001, Mississippi River Transmission Corporation (MRT) tendered for filing as part of its FERC Gas Tariff, Third Revised Volume No. 1, the following tariff sheets, with an effective date of May 1, 2001.

Second Revised Sheet No. 226A

First Revised Sheet No. 258

MRT states that the purpose of this filing is to comply with the Commission's order issued April 27, 2001 in Docket No. RP01-292-000. MRT is correcting pagination errors as directed by the Commission.

Any person desiring to protest said filing should file a protest with the Federal Energy Regulatory Commission, 888 First Street, NE., Washington, DC, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-12777 Filed 5-21-01; 8:45 am]

BILLING CODE 6717-01-M